DEPARTMENT OF TRANSPORTATION

Federal Highway Administration

Notice of Final Federal Agency Actions on Proposed Highway in Michigan

AGENCY: Federal Highway Administration (FHWA), Transportation (DOT).

ACTION: Notice of limitation on claims for judicial review of actions by FHWA and other Federal agencies.

SUMMARY: This notice announces actions taken by FHWA and other Federal agencies that are final. This final agency action relates to a proposed highway project, I-94, from I-96 to Conner Avenue in the city of Detroit, Wayne County, State of Michigan. The FHWA's Record of Decision provides details on the Selected Alternative for the proposed improvements.

DATES: By this notice, FHWA is advising the public of final agency actions subject to 23 U.S.C. 139(l)(1)-(2). A claim seeking judicial review of the Federal agency action on the highway project will be barred unless the claim is filed on or before January 7, 2021. If the Federal law that authorizes judicial review of a claim provides a time period of less than 150 days for filing such claim, then that shorter time period still applies.

FOR FURTHER INFORMATION CONTACT: For FHWA: Ruth Hepfer, Environment/Right-of-way Specialist, FHWA Michigan Division, 315 Allegan, Room 201, Lansing, MI 48933, Telephone: (517) 702-1847, Email: Ruth.Hepfer@dot.gov. The FHWA Michigan Division Office's normal business hours are 8:00 a.m. to 4:30 p.m. (Eastern Standard Time). For the Michigan Department of Transportation (MDOT): Terry Stepanski, P.E., Senior Project Manager, Michigan Department of Transportation, P.O. Box 30050, 425 W Ottawa Street, Lansing, MI 48909, Telephone: (517) 241-0233, Email: StepanskiT@michigan.gov. The Michigan Department of Transportation's normal business hours are 8:00 a.m. to 5:00 p.m. (Eastern Standard Time).

SUPPLEMENTARY INFORMATION: Notice is hereby given that FHWA has taken final agency action by issuing a Record of Decision for the following highway project in the State of Michigan: I-94 Detroit Modernization Project in Wayne County including modernization of approximately 6.7 miles of Interstate freeway (I-94) in the city of Detroit, Michigan between I-96 and Conner Avenue. Improvements include adding a travel lane in each direction, modernizing system and service interchanges, reconstructing bridges crossing over the freeway, and work on the service drives. The project is included in MDOT's adopted 2020-2023 State Transportation Improvement Program (STIP) and 2045 State Long Range Plan. The project is also included in the Southeast Michigan Council of Government's (SEMCOG) 2020-2023 Transportation Improvement Program and 2045 Regional Transportation Plan.

The FHWA's action, related actions by other Federal agencies and the laws under which such actions were taken, are described in the Combined Final Supplemental Environmental Impact Statement and Record of Decision (Combined FSEIS and ROD) for the project, approved on June 30, 2020, and in other documents in the project file. The Combined FSEIS and ROD is available for review by contacting FHWA or MDOT at the addresses provided above. In addition, these documents can be viewed and downloaded from the project website at: https://i94detroit.org/.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act (ESA) [16 U.S.C. 1531-1544 and Section 1536]; Marine Mammal Protection Act [16 U.S.C. 1361]; Anadromous Fish Conservation Act [16 U.S.C. 757(a)-757(g)], Fish and Wildlife Coordination Act [16 U.S.C. 661-667d]; Migratory Bird Treaty Act [16 U.S.C. 703-712], Magnuson-Stevenson Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469c]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barrier Resources Act [16 U.S.C. 3501-3510]; Coastal Zone Management Act [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act, [16 U.S.C. 3921, 3931]; TEA-21 Wetlands Mitigation [23 U.S.C. 103(b)(6)(M, 133(b)(11)]; Flood Disaster Protection Act [42 U.S.C. 4001-4128].

8. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139 (l)(1).

Issued on: August 3, 2020.
Russell L. Jorgenson,
Division Administrator, Lansing, Michigan.

[FR Doc. 2020-17182 Filed 8-7-20; 8:45 am]

BILLING CODE 4910-22-P